DEPARTMENT OF ENERGY

Federal Energy Regulatory Commission

Combined Notice of Filings

Take notice that the Commission has received the following Natural Gas Pipeline Rate and Refund Report filings:

Filings Instituting Proceedings

Docket Numbers: RP13-584-000.

Applicants: Columbia Gas Transmission, LLC.

Description: Settlement Refund Report—RP12-1021 & RP13-584.

Filed Date: 4/10/13.

Accession Number: 20130410-5105.

Comments Due: 5 p.m. ET 4/22/13.

Docket Numbers: RP13-789-000.

Applicants: Gulf South Pipeline Company, LP.

Description: Gulf South Pipeline Company, LP submits tariff filing per 154.204: Amendment to Neg Rate Agmt (Devon 34694-48) to be effective 4/9/2013.

Filed Date: 4/9/13.

Accession Number: 20130409-5095.

Comments Due: 5 p.m. ET 4/22/13.

Docket Numbers: RP13-790-000.

Applicants: Iroquois Gas Transmission System, L.P.

Description: 04/10/13 Negotiated Rates—Sequent Energy Management (HUB) 3075-89 to be effective 4/15/2013.

Filed Date: 4/10/13.

Accession Number: 20130410-5090.

Comments Due: 5 p.m. ET 4/22/13.

Docket Numbers: RP13-791-000.

Applicants: Equitrans, L.P.

Description: Compliance Filing—2013 Settlement to be effective 4/1/2013.

Filed Date: 4/10/13.

Accession Number: 20130410-5111.

Comments Due: 5 p.m. ET 4/22/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 11, 2013.
Nathaniel J. Davis, Sr.,
Deputy Secretary.

[FR Doc. 2013-09100 Filed 4-17-13; 8:45 am]

BILLING CODE 6717-01-P